DEPARTMENT OF TRANSPORTATION

National Highway Traffic Safety Administration

[Docket No. NHTSA-2008-0012; Notice 1]

Chrysler, LLC, Receipt of Petition for Decision of Inconsequential Noncompliance

Chrysler, LLC (Chrysler) has determined that certain vehicles that it manufactured during the period of October 1, 2003 through August 28, 2007, do not fully comply with either paragraph S4.3.3 of 49 CFR 571.110 (Federal Motor Vehicle Safety Standards (FMVSS) No. 110 Tire Selection and Rims for Motor Vehicles With a GVWR of 4,536 Kilograms (10,000 Pounds) or Less) or paragraph S5.3 of 49 CFR 571.120 (FMVSS No. 120 Tire Selection and Rims for Vehicles Other Than Passenger Cars)—depending on when the vehicle was manufactured. Chrysler has filed an appropriate report pursuant to 49 CFR part 573, Defect and Noncompliance Responsibility and Reports.

Pursuant to 49 U.S.C. 30118(d) and 30120(h) (see implementing rule at 49 CFR part 556), Chrysler has petitioned for an exemption from the notification and remedy requirements of 49 U.S.C. Chapter 301 on the basis that this noncompliance is inconsequential to motor vehicle safety.

This notice of receipt of Chrysler's petition is published under 49 U.S.C. 30118 and 30120 and does not represent any agency decision or other exercise of judgment concerning the merits of the petition.

Affected are approximately 154,000 model year 2005-2008 Dodge Magnum multipurpose passenger vehicles (MPV), and approximately 103,000 model year 2007-2008 Jeep Compass and Jeep Patriot MPVs. Paragraphs S4.3.3 of 49 CFR 571.110 and S5.3 of 49 CFR 571.120 require that:

4.3.3 of 49 CFR 571.110

Additional labeling information for vehicles other than passenger cars. Each vehicle shall show the size designation and, if applicable, the type designation of rims (not necessarily those on the vehicle) appropriate for the tire appropriate for use on that vehicle, including the tire installed as original equipment on the vehicle by the vehicle manufacturer, after each GAWR listed on the certification label required by Sec. 567.4 or Sec. 567.5 of this chapter. This information shall be in the English language, lettered in block capitals and numerals not less than 2.4 millimeters high and in the following format:

Truck Example—Suitable Tire-Rim Choice

GVWR: 2,441 kilograms (5381 pounds).

GAWR: Front—1,299 kilograms (2,864 pounds) with P265/70R16 tires, 16 x 8.0 rims at 248 kPa (36 psi) cold single.

GAWR: Rear—1,299 kilograms (2,864 pounds) with P265/70R16 tires, 16 x 8.00 rims, at 248 kPa (36 psi) cold single.

S5.3 Label information of 49 CFR 571.120

Each vehicle shall show the information specified in S5.3.1 and S5.3.2 and, in the case of a vehicle equipped with a non-pneumatic spare tire, the information specified in S5.3.3, in the English language, lettered in block capitals and numerals not less than 2.4 millimeters high and in the format set forth following this section. This information shall appear either—

(a) After each GAWR listed on the certification label required by Sec. 567.4 or Sec. 567.5 of this chapter; or, at the option of the manufacturer,

(b) On the tire information label affixed to the vehicle in the manner, location and form described in Sec. 567.4 (b) through (f) of this chapter, as appropriate for each GVWR-GAWR combination listed on the certification label.

S5.3.1 Tires. The size designation (not necessarily for the tires on the vehicle) and the recommended cold inflation pressure for those tires such that the sum of the load ratings of the tires on each axle (when the tires' load carrying capacity at the specified pressure is reduced by dividing by 1.10, in the case of a tire subject to FMVSS No. 109) is appropriate for the GAWR as calculated in accordance with S5.1.2.

S5.3.2. Rims. The size designation and, if applicable, the type designation of Rims (not necessarily those on the vehicle) appropriate for those tires.

TRUCK EXAMPLE—SUITABLE TIRE-RIM CHOICE

GVWR: 7,840 KG (17,289 LB)

GAWR: FRONT—2,850 KG (6,280 LB) WITH 7.50-20(D) TIRES, 20x6.00 RIMS AT 520 KPA (75 PSI) COLD SINGLE

GAWR: REAR—4,990 KG (11,000 LB) WITH 7.50-20(D) TIRES, 20x6.00 RIMS, AT 450 KPA (65 PSI) COLD DUAL

GVWR: 13,280 KG (29,279 LB)

GAWR: FRONT—4,826 KG (10,640 LB) WITH 10.00-20(F) TIRES, 20x7.50 RIMS, AT 620 KPA (90 PSI) COLD SINGLE

GAWR: REAR—8,454 KG (18,639 LB) WITH 10.00-20(F) TIRES, 20x2.70 RIMS, AT 550 KPA (80 PSI) COLD DUAL

S5.3.3 The non-pneumatic tire identification code, with which that assembly is labeled pursuant to S4.3(a) of Sec. 571.129.

Chrysler explains that S4.3.3 of FMVSS No. 110, which applies only to vehicles other than passenger cars with a GVWR of 10,000 pounds or less, and which went into effect on September 1, 2005, provides as follows: “Each vehicle shall show the size designation and, if applicable, the type designation of rims (not necessarily those on the vehicle) appropriate for the tire appropriate for use on that vehicle, including the tire installed as original equipment on the vehicle by the vehicle manufacturer, after each GAWR [Gross Axle Weight Rating] listed on the certification label required by § 567.4 or § 567.5 of this chapter * * *” Prior to September 1, 2005, similar requirements set out in S5.3 of FMVSS No. 120 applied to all non-passenger cars, regardless of their GVWR. 94,718 Dodge Magnums manufactured prior to September 1, 2005 failed to meet the requirements of FMVSS No. 120 and the remainder of the subject vehicles failed to meet the requirements of FMVSS No. 110.

Chrysler explains further that although the certification labels on the vehicles in question do not contain the appropriate tire and rim information after the specified GAWRs, the rim size and type are marked on the rims themselves. And, the size designation for the tires on each vehicle, which also reflects the size of the rims on the vehicle, is included on the tire placard affixed to the B-pillar on each vehicle, as required by S4.3(d) of FMVSS No. 110 for vehicles manufactured after September 1, 2005. Additionally, Magnums manufactured prior to September 1, 2005 had a Tire and Loading Information Label containing the relevant tire and rim size affixed to the B-pillar. Thus, the relevant rim information is clearly available to each vehicle owner and operator.

Chrysler also states that it has not received any consumer complaints regarding the absence of rim size information on the subject certification label.

In addition, Chrysler states that it has corrected the problem that caused these errors so that they will not be repeated in future production and that it believes that because the noncompliance is inconsequential to motor vehicle safety that no corrective action is warranted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

The petition, supporting materials, and all comments received before the close of business on the closing date indicated below will be filed and will be considered. Please note that we are allowing just 10 days for comment in order to expedite resolution of this matter. All comments and supporting materials received after the closing date will also be filed and will be considered to the extent possible. When the petition is granted or denied, notice of the decision will be published in the Federal Register pursuant to the authority indicated below.

Comment closing date: February 8, 2008.

Authority: (49 U.S.C. 30118, 30120: delegations of authority at CFR 1.50 and 501.8).

Issued on: January 23, 2008.
Claude H. Harris,
Director, Office of Vehicle Safety Compliance.

[FR Doc. E8-1539 Filed 1-28-08; 8:45 am]

BILLING CODE 4910-59-P